DEPARTMENT OF ENERGY

Federal Energy Regulatory Commission

Combined Notice of Filings

Take notice that the Commission has received the following Natural Gas Pipeline Rate and Refund Report filings:

Filings Instituting Proceedings

Docket Numbers: RP18-783-000.

Applicants: Northern Natural Gas Company.

Description: § 4(d) Rate Filing: 20180501 Winter PRA Fuel Rates to be effective 11/1/2018.

Filed Date: 5/1/18.

Accession Number: 20180501-5380.

Comments Due: 5 p.m. ET 5/14/18.

Docket Numbers: RP18-784-000.

Applicants: Columbia Gas Transmission, LLC.

Description: § 4(d) Rate Filing: TCO Virginia Power Negotiated Rate Amendment to be effective 5/1/2018.

Filed Date: 5/1/18.

Accession Number: 20180501-5382.

Comments Due: 5 p.m. ET 5/14/18.

Docket Numbers: RP18-785-000.

Applicants: Columbia Gas Transmission, LLC.

Description: § 4(d) Rate Filing: CNX Antero Amendment Filing to be effective 5/1/2018.

Filed Date: 5/1/18.

Accession Number: 20180501-5383.

Comments Due: 5 p.m. ET 5/14/18.

Docket Numbers: RP18-786-000.

Applicants: ETC Tiger Pipeline, LLC.

Description: § 4(d) Rate Filing: Fuel Filing on 5-1-18 to be effective 6/1/2018.

Filed Date: 5/1/18.

Accession Number: 20180501-5394.

Comments Due: 5 p.m. ET 5/14/18.

Docket Numbers: RP18-787-000.

Applicants: Fayetteville Express Pipeline LLC.

Description: § 4(d) Rate Filing: Fuel Filing on 5-1-18 to be effective 6/1/2018.

Filed Date: 5/1/18.

Accession Number: 20180501-5397.

Comments Due: 5 p.m. ET 5/14/18.

Docket Numbers: RP18-788-000.

Applicants: Tennessee Gas Pipeline Company, L.L.C.

Description: § 4(d) Rate Filing: Volume No. 2—Triad Expansion Project to be effective 6/1/2018.

Filed Date: 5/1/18.

Accession Number: 20180501-5400.

Comments Due: 5 p.m. ET 5/14/18.

Docket Numbers: RP18-789-000.

Applicants: Cheniere Corpus Christi Pipeline, LP.

Description: Compliance filing CCPL Compliance Filing for Docket No. CP12-508-000 to be effective 6/1/2018.

Filed Date: 5/1/18.

Accession Number: 20180501-5402.

Comments Due: 5 p.m. ET 5/14/18.

Docket Numbers: RP18-790-000.

Applicants: Enable Gas Transmission, LLC.

Description: § 4(d) Rate Filing: Negotiated Rate Filing—May 2018 Spire 1005896 to be effective 5/1/2018.

Filed Date: 5/1/18.

Accession Number: 20180501-5404.

Comments Due: 5 p.m. ET 5/14/18.

Docket Numbers: RP18-791-000.

Applicants: Cheniere Corpus Christi Pipeline, LP.

Description: § 4(d) Rate Filing: CCPL/CCL Negotiated Rate to be effective 6/1/2018.

Filed Date: 5/2/18.

Accession Number: 20180502-5044.

Comments Due: 5 p.m. ET 5/14/18.

Docket Numbers: RP18-792-000.

Applicants: Northern Natural Gas Company.

Description: § 4(d) Rate Filing: 20180502 Negotiated Rate to be effective 5/2/2018.

Filed Date: 5/2/18.

Accession Number: 20180502-5147.

Comments Due: 5 p.m. ET 5/14/18.

Docket Numbers: RP18-793-000.

Applicants: Granite State Gas Transmission, Inc.

Description: § 4(d) Rate Filing: Amendment Settlement Filing to be effective 7/31/2018.

Filed Date: 5/2/18.

Accession Number: 20180502-5148.

Comments Due: 5 p.m. ET 5/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2018.
Nathaniel J. Davis, Sr.,
Deputy Secretary.

[FR Doc. 2018-09850 Filed 5-8-18; 8:45 am]

BILLING CODE 6717-01-P